ENVIRONMENTAL PROTECTION AGENCY

[EPA-HQ-OPPT-2025-0067; FRL-12475-10-OCSPP]

Certain New Chemicals; Receipt and Status Information for September and October 2025

AGENCY: Environmental Protection Agency (EPA).

ACTION: Notice of receipt and request for comment.

SUMMARY: This document announces the Agency's receipt of new chemical submissions under the Toxic Substances Control Act (TSCA), including information about the receipt of a Premanufacture Notice (PMN), Significant New Use Notice (SNUN), Microbial Commercial Activity Notice (MCAN), and an amendment to a previously submitted notice; test information; a biotechnology exemption application; an application for a test marketing exemption (TME); and a notice of commencement of manufacture (defined by statute to include import) (NOC) for a new chemical substance. This document also provides a periodic status report on the new chemical substances that are currently under EPA review or have recently concluded review. EPA is hereby providing notice of receipt of this information, as required by TSCA, and an opportunity to comment. This document covers new chemical submissions that have passed an initial screening and, for PMNs, SNUNs and MCANs, were determined to be complete, during the period from 10/1/2025 to 10/31/2025.

DATES: Comments must be received on or before February 4, 2026.

ADDRESSES: Submit your comments, identified by docket identification (ID) number EPA-HQ-OPPT-2025-0067 and the specific case number provided in this document for the chemical substance related to your comment, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For technical information: Jim Rahai, Regulatory and Information Services Division (7603M), Office of Misson Critical Operations, Office of Chemical Safety and Pollution Prevention, Environmental Protection Agency, 1200 Pennsylvania Ave. NW, Washington, DC 20460-0001; telephone number: (202) 564-8593; email address: rahai.jim@epa.gov.

For general information: The TSCA-Hotline, Goodwill of the Finger Lakes, 422 South Clinton Ave., Rochester, NY 14620; telephone number: (202) 554-1404; email address: TSCA-Hotline@epa.gov.

SUPPLEMENTARY INFORMATION:

I. Executive Summary

A. Does this action apply to me?

This action provides information that is directed to the public in general.

B. What is the Agency's authority for taking this action?

EPA is publishing this document in the Federal Register as required by sections 5 of the Toxic Substances Control Act (TSCA), 15 U.S.C. 2601 et seq., and corresponding EPA regulations.

Under TSCA, a chemical substance may be either an “existing” chemical substance or a “new” chemical substance, see https://www.epa.gov/chemicals-under-tsca. Any chemical substance that is not on EPA's TSCA Inventory of Chemical Substances (TSCA Inventory) is classified as a “new chemical substance,” while a chemical substance that is listed on the TSCA Inventory is classified as an “existing chemical substance.” See TSCA section 3(2) and (11). For more information about the TSCA Inventory, see https://www.epa.gov/inventory.

Any person who intends to manufacture (including import) a new chemical substance for a non-exempt commercial purpose, or to manufacture or process a chemical substance in a non-exempt manner for a use that EPA has determined is a significant new use, is required by TSCA section 5 to provide EPA with a PMN, MCAN, or SNUN, as appropriate, before initiating the activity. EPA will review the notice, make a risk determination on the new chemical substance or significant new use, and take appropriate action as described in TSCA section 5(a)(3).

TSCA section 5(h)(1) authorizes EPA to allow persons, upon application and under appropriate restrictions, to manufacture a new chemical substance, or manufacture or process a chemical substance subject to a significant new use rule (SNUR) issued under TSCA section 5(a)(2), for “test marketing” purposes, upon a showing that the manufacture, processing, distribution in commerce, use, and disposal of the chemical substances will not present an unreasonable risk of injury to health or the environment. This is referred to as a test marketing exemption, or TME.

Premanufacture notification procedures for review of certain new microbial products of biotechnology are established in 40 CFR part 725. These pertain to MCANs and biotechnology exemptions, including TSCA experimental release applications (TERAs), TMEs for microorganisms, and Tier I and Tier II exemptions.

C. What action is the Agency taking?

This document provides notice of receipt and status reports for the covered period and certain submissions under TSCA section 5 and provides an opportunity to comment on this information. The Agency is providing information about the receipt of PMNs, SNUNs, MCANs, and amendments to a previously submitted notice; test information; biotechnology exemption applications under 40 CFR part 725; TME applications; NOCs for new chemical substances; and a periodic status report on chemical substances that are currently under EPA review or have recently concluded review.

D. What should I consider as I prepare my comments for EPA?

1. Submitting CBI. Do not submit CBI to EPA through https://www.regulations.gov or email. If you wish to include CBI in your comment, please follow the instructions at https://www.epa.gov/dockets/commenting-epa-dockets#rules and clearly mark the information that you claim to be CBI. In addition to one complete version of the comment that includes CBI, a copy of the comment without CBI must be submitted for inclusion in the public docket. Information marked as CBI will not be disclosed except in accordance with procedures set forth in 40 CFR parts 2 and 703.

2. Tips for preparing your comments. When preparing and submitting your comments, see the commenting tips at https://www.epa.gov/dockets/commenting-epa-dockets.

II. Background

A. What information is being provided in this document?

The tables in this document provide the following information on the TSCA section 5 submissions received by EPA during this period and determined to be complete consistent with 40 CFR 720.70(a).

• Case number. The EPA number assigned to the TSCA section 5 submissions. Please note that a case number may be listed more than once in the table when the submission involves a subsequent amendment.

• Chemical substance. Name of the chemical substance, or generic name if the specific name is claimed as CBI.

• Manufacturer. Name of the submitting manufacturer, to the extent that such information is not subject to a CBI claim. The term “manufacturer” is defined by statute to include importer.

• Use(s). Potential uses identified by the manufacturer.

• Received. Date the submission was received by EPA.

• Commencement. Date of commencement provided by the submitter in the NOC.

• Test information. For test information received, the type of test information submitted to EPA based on the attachment type and subtype data selected by the submitter.

B. What do the acronyms mean that are used in the tables?

As used in each of the tables, the following explanations apply:

• (S) indicates that the information in the table is the specific information provided by the submitter.

• (G) indicates that the information in the table is generic information because the specific information provided by the submitter was claimed as CBI.

C. How can I access other information about TSCA section 5 submissions?

EPA provides information on its website about cases reviewed under TSCA section 5, including the PMNs, SNUNs, MCANs, and exemption applications received; the date of receipt; the final EPA determination on the submission; and the effective date of EPA's determination. See https://www.epa.gov/reviewing-new-chemicals-under-toxic-substances-control-act-tsca/status-pre-manufacture-notices. In addition, information EPA receives about chemical substances under TSCA, including non-CBI new chemical submissions, can be accessed in ChemView at https://chemview.epa.gov/chemview.

III. Receipt Reports

Table 1 provides non-CBI information for the PMNs, SNUNs and MCANs received by EPA that have passed an initial screening and determined to be complete consistent with 40 CFR 720.70(a) during this period.

Table 1—PMN/SNUN/MCANs Received and Under Review
Case No. | Received date | Manufacturer | Use | Chemical substance
J-25-0015 | 09/16/2025 | Danisco US, Inc | (G) Production of a chemical substance | (G) Genetically modified microorganism.
P-23-0162 | 10/21/2025 | CBI | (S) Transportation fuels, Chemical Feedstock, Fuel additive | (G) Alkane (glyceridic), hydrotreated and isomerized.
P-23-0163 | 10/02/2025 | CBI | (G) Surface coating | (S) 1,2-Ethanediamine, N1-[3-(trimethoxysilyl) propyl]-, hydrolysis products with 3-(trimethoxysilyl)-N- [3- (trimethoxysilyl)propyl]-1-propanamine, nitrates (salts).
P-24-0043 | 10/06/2025 | Clariant Corporation | (S) Catalyst for use in petrochemical operations | (S) Iron potassium oxide (FeKO2).
P-24-0093 | 10/24/2025 | Evonik Corporation | (S) Surfactant in manual/hand dish, laundry detergent, and hard surface cleaner | (G) Rhamnolipids, modified pseudomonas-fermented, from dextrose, salts.
P-24-0094 | 10/24/2025 | Evonik Corporation | (S) Surfactant in manual/hand dish, laundry detergent, and hard surface cleaner | (G) Rhamnolipids, modified pseudomonas-fermented, from dextrose, salts.
P-24-0095 | 10/24/2025 | Evonik Corporation | (S) Surfactant in manual/hand dish, laundry detergent, and hard surface cleaner | (G) Rhamnolipids, modified pseudomonas-fermented, from dextrose, salts.
P-24-0096 | 10/24/2025 | Evonik Corporation | (S) Surfactant in manual/hand dish, laundry detergent, and hard surface cleaner | (G) Rhamnolipids, modified pseudomonas-fermented, from dextrose, salts.
P-24-0115 | 10/17/2025 | PCI Synthesis | (S) Additive (e.g., solvent, cleaning agent, coalescent) used in spray-applied products (e.g., paints, coatings, inks, toner), and non-spray applied products (e.g., adhesives, sealants, thinners, paint removers, anti-freeze and de-icing products, fillers, putties, plasters, clays, tableting, compression, extrusion, palletization, granulation, surface treatment, leather treatment, lubricants, greases, waxes, polishes, release products, degreasers) | (S) Pentanedioic acid, 1,5-dibutyl ester.
P-25-0093 | 10/08/2025 | CBI | (G) Battery Component | (G) Mixed Metal Oxide.
P-25-0094 | 10/08/2025 | CBI | (G) Battery Component | (G) Mixed Metal Oxide.
P-25-0095 | 10/08/2025 | CBI | (G) Battery Component | (G) Mixed Metal Oxide.
P-25-0096 | 10/08/2025 | CBI | (G) Battery Component | (G) Mixed Metal Oxide.
P-25-0129 | 10/09/2025 | Hawkins, Inc | (S) Correction of iron deficiency in alkaline soils when EDTA-Fe is not stable. Product is intended as a fertilizer micronutrient | (S) Ferrate (3-), [[a, a′-[1,2-ethanediyldi(imino-kN)] bis[2-(hydroxy-kO)-5-sulfobenzeneacetato-kO]] (6-)]-, sodium (1:3).
P-25-0135 | 10/22/2025 | CBI | (G) Used as a component in battery manufacturing | (G) Metal- and metal- and metal-doped cobalt lithium manganese nickel oxide.
P-25-0136 | 10/22/2025 | CBI | (G) Used as a component in battery manufacturing | (G) Metal- and metal-doped cobalt lithium manganese nickel oxide.
P-25-0157 | 10/21/2025 | Quino Energy | (S) Active material (electrolyte) in redox flow batteries, serving as the battery's negolyte (also referred to as the anolyte) for electrical energy storage applications | (S) 2,6-Anthracenediacetic acid, 9,10-dihydro-1,5-dihydroxy-9,10-dioxo-, potassium sodium salt (1:?:?).
P-26-0001 | 10/08/2025 | CBI | (S) Chemical Intermediate | (G) Propenoic acid, -methyl, -[alkylsiloxanyl]propyl ester.
P-26-0003 | 10/08/2025 | Bedoukian Research, Inc | (S) Site-limited intermediate | (G) 3-Acetoxyalkyltriarylphosphonium bromide.
P-26-0004 | 10/08/2025 | Bedoukian Research, Inc | (S) Site-limited intermediate | (G) 8-Acetoxyalkyltriarylphosphonium bromide.
P-26-0005 | 10/08/2025 | Bedoukian Research, Inc | (S) Site-limited intermediate | (G) 9-Acetoxyalkyltriarylphosphonium bromide.
P-26-0007 | 10/15/2025 | Brewer Science, Inc | (G) Ingredient used in coating solution | (G) Carbomonocyclic sulfonium salt.
P-26-0007 | 10/21/2025 | Brewer Science, Inc | (G) Ingredient used in coating solution | (G) Carbomonocyclic sulfonium salt.
P-26-0008 | 10/16/2025 | CBI | (S) Used as a fragrance ingredient in consumer products | (G) 6-Nonen-1-ol, methyl substituted.
P-26-0009 | 10/17/2025 | CBI | (G) Electrolyte additive | (G) Carbonic acid, methyl alkyl ester.
P-26-0011 | 10/21/2025 | Clariant Corporation | (S) Catalyst for use in petrochemical operations | (G) Metal oxide.
P-26-0012 | 10/24/2025 | Nabors Energy Transition Solutions—Tomball | (G) Additive to enhance material characteristics and performance | (G) Mixture of carbon nanomaterials—Type A.
P-26-0013 | 10/24/2025 | Nabors Energy Transition Solutions—Tomball | (G) Additive to enhance material characteristics and performance | (G) Mixture of carbon nanomaterials—Type B.
P-26-0014 | 10/24/2025 | CBI | (G) Additive used in industrial applications | (G) Polyheterocycle, polyatom, Heterocycle-heterocycle, polyatom, polyatom, Heterocycle-heterocycle, polyatom, polyatom,.
P-26-0015 | 10/28/2025 | CBI | (G) Use in inks/coatings | (S) 2-Propenoic acid, (2,2-dimethyl-1,3-dioxolan-4-yl) methyl ester;2-Propenoic acid, 2,2-dimethyl-1,3-dioxan-5-yl ester.
P-26-0016 | 10/29/2025 | CBI | (G) Additive in Household consumer products | (S) Benzene, 1-methoxy-4-[3-methyl-4-(2-phenylethoxy)-3-buten-1-yl]-.
SN-21-0008 | 10/24/2025 | CBI | (S) Heat transfer system, Foam expansion agent (G) Test media, Specialty fluid, Clean agent system | (S) 2-Butene, 1,1,1,4,4,4-hexafluoro-, (2Z)-.
SN-21-0009 | 10/24/2025 | CBI | (G) Not Applicable | (S) 2-Butene, 1,1,1,4,4,4-hexafluoro-, (2E)-.

Table 2 provides non-CBI information on the NOCs received by EPA that have passed an initial screening during this period.

Table 2—NOCs Received and Under Review
Case No. | Received date | Commencement date | Chemical substance
J-22-0007 | 10/03/2025 | 09/25/2025 | (G) Strain of Escherichia coli modified with genetically stable, plasmid-borne DNA for the production of plasmid-borne DNA.
J-25-0004 | 10/01/2025 | 09/09/2025 | (G) Modified yeast, with chromosomal modifications to improve fermentation characteristics.
P-18-0325 | 10/22/2025 | 10/06/2025 | (G) Benzenesulfonic acid, alkyl derivs., compds. with diisopropanolamine.
P-21-0075 | 10/15/2025 | 10/12/2025 | (G) Alkanoic acid, hydroxy-(hydroxyalkyl)-alkyl-, polymer with alpha-[(hydroxyalkyl)alkyl]-omega-alkoxypoly(oxy-alkanediyl), dialkyl carbonate, alkanediol, alkylene[isocyanato-carbomonocycle] and [oxybis(alkylene)] bis[alkyl-alkanediol] alkenoate, compd. with dialky alkanamine.
P-21-0080 | 10/15/2025 | 10/12/2025 | (G) Alkanedioic acid, polymers with alkanoic acid-dipentaerythritol reaction products, substituted alkanedioc acid, substituted alkanoic acid, isocyanato-(isocyanatoalkyl)-alkyl substituted carbomoncycle, dialkyl alkanediol and polyalkylene glycol(hydroxyalkyl)alkyl aklyl ether.
P-22-0002 | 10/17/2025 | 08/05/2025 | (G) Molybdenum chloride oxide (MoCl2O2), (T-4)-.
P-22-0145 | 10/06/2025 | 09/07/2025 | (G) Alkanoic acid, trialkyl-, diester with carbomonocycle bis(alkyleneoxy)] bis[alkanediol].
P-23-0047 | 09/30/2025 | 09/01/2025 | (G) Heteromonocyclic, dialkyl amide, substituted alkyl salt.
P-23-0072 | 10/20/2025 | 09/30/2025 | (G) Halosubstituted carbopolycycle, polymer with substituted carbomonocycles and oxybis[alkanol].
P-23-0078 | 10/30/2025 | 10/06/2025 | (S) Soybean oil, polymer with diethylene glycol- and glycerol- and tetraethylene glycol- and triethylene glycoldepolymd.poly(ethylene terephthalate) waste plastics, 3-hydroxy-2-(hydroxymethyl)-2-methylpropanoic acid and phthalic anhydride.
P-24-0082 | 10/21/2025 | 09/30/2025 | (S) 2-propenoic acid, 3-bromo-2,2-bis(bromomethyl)propyl ester.
P-24-0102 | 10/03/2025 | 10/02/2025 | (G) Polyester polymer with polyether polymer and 1,1′-methylenebis[4-isocyanatobenzene].
P-24-0103 | 10/06/2025 | 10/05/2025 | (G) Polyester polymer with polyether polymer and 1,1′-methylenebis[isocyanatobenzene].
P-24-0161 | 10/01/2025 | 08/17/2025 | (S) Fats and glyceridic oils, camelina sativa.
P-25-0070 | 10/21/2025 | 09/30/2025 | (G)Sulfonium, is (dihalo carbomonocycle)(halo carbomonocycle)-, salt with dihalo-sulfoalkyl [(alkenylcarbomonocycle)substituted] trisubstituted benzoate, polymer with alkenylcarbomonocycle and alkylcarbomonocycle alkyl alkenoate.
P-25-0071 | 10/21/2025 | 09/30/2025 | (G)Sulfonium, is (dihalo carbomonocycle) (halocarbomonocycle)-, salt with trihalobenzoate.

Table 3 provides non-CBI information on the test information that has been received by EPA that have passed an initial screening during this period.

Table 3—Test Information Received
Case No. | Received date | Type of test information | Chemical substance
P-08-0200 | 10/24/2025 | Analytical summary | (G) Partially fluorinated amphiphilic condensation polymer.
P-08-0200 | 10/25/2025 | Analytical summary | (G) Partially fluorinated amphiphilic condensation polymer.
P-08-0200 | 10/29/2025 | Analytical summary | (G) Partially fluorinated amphiphilic condensation polymer.
P-08-0642 | 10/24/2025 | Analytical Summary | (G) Fluorinated acrylic copolymer.
P-08-0643 | 10/24/2025 | Analytical Summary | (G) Fluorinated acrylic copolymer.
P-08-0644 | 10/24/2025 | Analytical Summary | (G) Fluorinated acrylic copolymer.
P-08-0664 | 10/24/2025 | Analytical Summary | (G) Fluorinated acrylic copolymer.
P-08-0748 | 10/27/2025 | Analytical Summary | (G) Fluorinated acrylic copolymer.
P-08-0751 | 10/27/2025 | Analytical Summary | (G) Fluorinated acrylic copolymer.
P-09-0245 | 10/27/2025 | Analytical Summary | (G) Partially fluorinated alcohol, reaction products with phosphorus oxide (P205), ammonium salts.
P-09-0246 | 10/27/2025 | Analytical Summary | (G) Partially fluorinated alcohol, reaction products with phosphorus oxide (P205).
P-09-0293 | 10/27/2025 | Analytical Summary | (G) Phosphoric acid, mixed esters with partially fluorinated alcohol, ammonium salts.
P-09-0294 | 10/27/2025 | Analytical Summary | (S) Phosphoric acid, mixed esters with polyethylene glycol and 3,3,4,4,5,5,6,6,7,7,8,8,8-tridecafluoro-1-octanol, ammonium salts.
P-10-0058 | 10/27/2025 | Analytical Summary | (G) Partially fluorinated alcohol substituted glycol.
P-10-0059 | 10/27/2025 | Analytical Summary | (G) Partially fluorinated alcohol substituted glycol.
P-10-0060 | 10/27/2025 | Analytical Summary | (G) Partially fluorinated alcohol substituted glycol.
P-11-0091 | 10/27/2025 | Annual Report | (G) Fluorinated acrylic alkylamino copolymer.
P-11-0526 | 10/24/2025 | Annual Report | (G) Amphoteric fluorinated surfactant.
P-12-0450 | 10/27/2025 | Annual Report | (G) Partially fluorinated alcohol, reaction products with phosphorus oxide (P2O5), amine salts.
P-14-0712 | 10/03/2025 | Test Results | (S) Waste plastics, pyrolyzed, C5-55 fraction.
P-14-0712 | 10/14/2025 | Analytical Report | (S) Waste plastics, pyrolyzed, C5-55 fraction.
P-17-0178 | 10/18/2025 | Study Report | (G) Sulfonium, triphenyl-, salt with substituted-alkyl 4-substituted-benzoate.
P-18-0016 | 10/01/2025 | Study Report | (G) Aromatic sulfonium tricyclo fluoroalkyl sulfonic acid salt.
P-20-0042 | 09/29/2025 | Study Report | (G) Sulfonium, trisaryl-, 7,7-dialkyl-2-heteropolycyclic -1-alkanesulfonate (1:1).
P-20-0141 | 10/20/2025 | Study Report | (G) Sulfonium, [4-(1,1-dimethylethyl) phenyl] diphenyl-, salt with heterosubstituted-alkyl tricycloalkane-carboxylate (1:1).
P-22-0042 | 10/27/2025 | OECD No. 422-Combined repeat dose-oral toxicity study with reproduction/developmental toxicity screening in rats | (G) Alkanediones, [[[(substituted)aryl] thio] aryl]-, 2-(O-acetyloxime).
P-22-0055 | 09/29/2025 | Study Report | (G) Aromatic sulfonium tricyclo fluoroalkyl sulfonic acid salt.
P-24-0044 | 10/02/2025 | Study Report | (G) Oxirane, 2-methyl-, polymer with oxirane, ether with N-[4-[[4-[bis(2-hydroxyethyl) amino] phenyl] (2-substitutedphenyl) methylene]-2,5-cyclohexadien-1-ylidene]-2-hydroxy-N-(2-hydroxyethyl) ethanaminium inner salt (4:1).
P-25-0016 | 09/29/2025 | Study Report | (G) Tri haloaromatic iodonium dicyclo salt with polyhaloalkyl carbomonocycle hetero acid.
P-25-0097 | 10/01/2025 | Study Report | (G) Aromatic sulfonium tricyclo salt with dicocoalkyl carbomonocycle hetero acid.

IV. Status Reports

Information about the TSCA section 5 PMNs, SNUNs, MCANs, and exemption applications received, including the date of receipt, the status of EPA's review, the final EPA determination, and the effective date of EPA's determination, is available online at: https://www.epa.gov/reviewing-new-chemicals-under-toxic-substances-control-act-tsca/pre-manufacture-notices.

(Authority: 15 U.S.C. 2601 et seq.)

Dated: December 18, 2025.
Mary Elissa Reaves,
Director, Office of Pollution Prevention and Toxics.

[FR Doc. 2025-24244 Filed 1-2-26; 8:45 am]

BILLING CODE 6560-50-P